DEPARTMENT OF COMMERCE

National Oceanic and Atmospheric Administration

RIN 0648-XO00

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on March 24-26, 2009. The Council will convene on Tuesday, March 24, 2009, from 9:30: a.m. to 5 p.m. They will reconvene on Wednesday, March 25, 2009, from 9 a.m. to 5 p.m., and the Administrative Committee will meet from 5:15 p.m. to 6 p.m., on that same date. The Council will reconvene on Thursday, March 26, 2009, from 9 a.m. to 5 p.m., approximately.

ADDRESSES: The meetings will be held at the Carambola Beach Resort and Spa, located at Estate Davis Bay, St. Croix, U.S.V.I.

FOR FURTHER INFORMATION CONTACT: Caribbean Fishery Management Council, 268 Munoz Rivera Avenue, Suite 1108, San Juan, Puerto Rico 00918-1920, telephone (787) 766-5926.

SUPPLEMENTARY INFORMATION: The Council will hold its 130th regular Council Meeting to discuss the items contained in the following agenda:

March 24, 2009 - 9 a.m. to 5:30 p.m.

• Call to Order

• Adoption of Agenda

• Consideration of the 129th Council Meeting Verbatim Transcription

• Executive Director's Report

• Final Guidelines National Standard 1

• SEDAR Report

• ACLG Report/Recommendations

• SSC Report/Recommendations

• ACLs/AMs Scoping Document

March 25, 2009, 9 a.m. - 5 p.m.

• Continuation of ACLs/AMs Scoping Document

• Presentations

- HMS Caribbean Amendment Update - Greg Fairclough

- Presentation on Coral Issues

- Traditional Ecological Knowledge among Puerto Rico Fishermen - Manuel Valdes Pizzini

- Determining Appropriate Boundaries to Protect Nassau Grouper and Yellowtail Spawning Aggregations - Richard Nemeth

- How Effective are No-Take areas on Current and Historic Nassau Grouper Spawning Grounds? - Brice Semmens

- Trap Study Presentation - Julian Magras

- US Customs and Border Protection (CBP) Presentation - Jose Vazquez

• Bajo de Sico Alternatives

5:15 p.m. - 6 p.m.

• Administrative Committee Meeting

-

- Budget 2009/10

- SOPPs Amendment(s)

- Other Business

March 26, 2009, 9 a.m. - 5 p.m.

• Enforcement Reports

- Puerto Rico - DNER

- U.S. Virgin Islands - DPNR

- NOAA/NMFS

- U.S. Coast Guard

• Administrative Committee Recommendations

• Meetings Attended by Council Members and Staff

Public Comment Period (5-minute presentations)

• Other Business

• Next Council Meeting

The meetings are open to the public, and will be conducted in English. Fishers and other interested persons are invited to attend and participate with oral or written statements regarding agenda issues. Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-1920, telephone (787) 766-5926, at least five days prior to the meeting date.

Dated: March 6, 2009.
Emily H. Menashes,
Acting Director, Office of Sustainable Fisheries, National Marine Fisheries Service.

[FR Doc. E9-5170 Filed 3-6-09; 4:15 pm]

BILLING CODE 3510-22-S